DEPARTMENT OF JUSTICE

Notice of Lodging of Proposed Consent Decree Under the Clean Air Act

On July 18, 2013 the Department of Justice filed a Complaint and simultaneously lodged a proposed Consent Decree (“Decree”) with the United States District Court for the District of Colorado in the lawsuit entitled United States v. Williams Four Corners LLC, Civil Action No. 13-cv-1923. In its Complaint the United States seeks civil penalties and injunctive relief against Williams Four Corners, LLC (“Williams”) for violations of the permit issued pursuant to Part C of Subchapter I of the CAA, 42 U.S.C. 7475 (Prevention of Significant Deterioration or “PSD”) and the regulations promulgated thereunder at 40 CFR 52.21, and the federal operating permit program set forth at Title V of the CAA, 42 U.S.C. 7661-7661f (“Title V”) and the regulations promulgated thereunder at 40 CFR part 71, at a facility known as PLA-9 Central Deliver Point, also known as PLA-9 CDP (the “PLA-9 Facility”). The PLA-9 Facility is located approximately 18 miles southwest of Durango, Colorado, and within the exterior boundaries of the Southern Ute Indian Reservation. The PLA-9 Facility is now shut down. The Decree requires Williams pay a $63,000 civil penalty to settle the alleged violations. Should Williams restart any operations at PLA-9 within the next two years, the Decree requires Williams comply with the requirements of the PSD Permit applicable to any emitting units that may be restarted or replaced.

The publication of this notice opens a period for public comment. Comments should be addressed to the Acting Assistant Attorney General, Environment and Natural Resources Division, and should refer to United States v. Williams Four Corners, LLC, D.J. Ref. No. DOJ # 90-5-2-1-10120. All comments must be submitted no later than thirty (30) days after the publication date of this notice. Comments may be submitted either by email or by mail:

To submit comments: | Send them to:
By e-mail | pubcomment-ees.enrd@usdoj.gov.
By mail | Assistant Attorney General, U.S. DOJ-ENRD, PO Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ-ENRD, P.O. Box 7611, Washington, DC 20044-7611.

Please enclose a check or money order for $7.25 (25 cents per page reproduction cost) payable to the United States Treasury.

Robert Brook,
Assistant Section Chief, Environmental Enforcement Section, Environment and Natural Resources Division.

[FR Doc. 2013-17874 Filed 7-24-13; 8:45 am]

BILLING CODE 4410-15-P